FEDERAL DEPOSIT INSURANCE CORPORATION

Notice of Cancellation of Agency Meeting

Pursuant to the provisions of the “Government in the Sunshine Act” (5 U.S.C. 552b), notice is hereby given that the previously announced closed meeting of the Board of Directors of the Federal Deposit Insurance Corporation scheduled to be held at 10 a.m. on Thursday, March 1, 2007, has been cancelled.

No earlier notice of this cancellation was practicable.

Dated: February 28, 2007.
Federal Deposit Insurance Corporation.
Robert E. Feldman,
Executive Secretary.

[FR Doc. 07-992 Filed 2-28-07; 12:35 pm]

BILLING CODE 6714-01-M